ENVIRONMENTAL PROTECTION AGENCY

[EPA-HQ-ORD-2015-0365; FRL-9929-88-ORD]

Board of Scientific Counselors (BOSC) Air, Climate, and Energy Subcommittee Meeting—July 2015

AGENCY: Environmental Protection Agency (EPA).

ACTION: Notice of meeting.

SUMMARY: Pursuant to the Federal Advisory Committee Act, Public Law 92-463, the U.S. Environmental Protection Agency, Office of Research and Development (ORD), gives notice of a meeting (via conference call) of the Board of Scientific Counselors (BOSC) Air, Climate, and Energy Subcommittee.

DATES: The conference call will be held on Monday, July 20, 2015, from 3:00 p.m. to 5:00 p.m., Eastern Time. These times are approximate; the conference call may adjourn early if all business is finished or may adjourn late if additional time is needed. Written comments and requests for the draft agenda or for making oral presentations at the meeting will be accepted up to one business day before the meeting.

ADDRESSES: Participation in the conference call will be by teleconference only; meeting rooms will not be used. Members of the public may obtain the call-in number and access code for the call from Tim Benner, the Designated Federal Officer, via any of the contact methods listed in the FOR FURTHER INFORMATION CONTACT section below.

Submitting Comments: Submit your comments, identified by Docket ID No. EPA-HQ-ORD-2015-0365, by one of the following methods:

• www.regulations.gov: Follow the on-line instructions for submitting comments.

• Email: Send comments by electronic mail (email) to: ORD.Docket@epa.gov, Attention Docket ID No. EPA-HQ-ORD-2015-0365.

• Fax: Fax comments to: (202) 566-0224, Attention Docket ID No. EPA-HQ-ORD-2015-0365.

• Mail: Send comments by mail to: Board of Scientific Counselors (BOSC) Air, Climate, and Energy Subcommittee Docket, Mail Code: 2822T, 1301 Constitution Ave. NW., Washington, DC, 20004, Attention Docket ID No. EPA-HQ-ORD-2015-0365.

• Hand Delivery or Courier: Deliver comments to: EPA Docket Center (EPA/DC), Room 3334, William Jefferson Clinton West Building, 1301 Constitution Ave. NW., Washington, DC, Attention Docket ID No. EPA-HQ-ORD-2015-0365. Note: this is not a mailing address. Deliveries are only accepted during the docket's normal hours of operation, and special arrangements should be made for deliveries of boxed information.

Instructions: Direct your comments to Docket ID No. EPA-HQ-ORD-2015-0365. The EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means the EPA will not know your identity or contact information unless you provide it in the body of your comment. If you send an email comment directly to the EPA without going through www.regulations.gov, your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses. For additional information about the EPA's public docket visit the EPA Docket Center homepage at http://www.epa.gov/dockets/.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Board of Scientific Counselors (BOSC) Air, Climate, and Energy Subcommittee Docket, EPA/DC, William Jefferson Clinton West Building, Room 3334, 1301 Constitution Ave. NW., Washington, DC. The Public Reading Room is open from 8:30 a.m. to 4:30 p.m., Monday through Friday, excluding legal holidays. The telephone number for the Public Reading Room is (202) 566-1744, and the telephone number for the ORD Docket is (202) 566-1752.

FOR FURTHER INFORMATION CONTACT: The Designated Federal Officer via mail at: Tim Benner, Mail Code 8104R, Office of Science Policy, Office of Research and Development, U.S. Environmental Protection Agency, 1200 Pennsylvania Ave. NW., Washington, DC 20460; via phone/voice mail at: (202) 564-6769; via fax at: (202) 565-2911; or via email at: benner.tim@epa.gov.

SUPPLEMENTARY INFORMATION:

General Information: The conference call is open to the public. Any member of the public interested in receiving a draft agenda, attending the conference call, or making a presentation during the conference call may contact Tim Benner, the Designated Federal Officer, via any of the contact methods listed in the FOR FURTHER INFORMATION CONTACT section above. In general, each individual making an oral presentation will be limited to a total of three minutes. Proposed agenda items for the meeting include, but are not limited to, the following: presentation and discussion of the subcommittee's draft responses to the charge questions and approval of the final draft letter report prior to its submission to the BOSC Executive Committee.

Information on Services for Individuals with Disabilities: For information on access or services for individuals with disabilities, please contact Tim Benner at (202) 564-6769 or benner.tim@epa.gov. To request accommodation of a disability, please contact Tim Benner, preferably at least ten days prior to the conference call, to give the EPA as much time as possible to process your request.

Dated: June 24, 2015.
Fred S. Hauchman,
Director, Office of Science Policy.

[FR Doc. 2015-16199 Filed 6-30-15; 8:45 am]

BILLING CODE 6560-50-P